DEPARTMENT OF THE INTERIOR

Bureau of Ocean Energy Management

[Docket No. BOEM-2023-0065]

Notice of Availability of a Draft Environmental Assessment for Commercial Wind Lease Issuance on the Pacific Outer Continental Shelf, Oregon

AGENCY: Bureau of Ocean Energy Management, Interior.

ACTION: Notice of availability; request for comments.

SUMMARY: The Bureau of Ocean Energy Management (BOEM) announces the availability of a draft environmental assessment (EA) to consider the potential environmental impacts associated with possible wind energy-related leasing and grant issuance, site assessment, and site characterization activities on the U.S. Pacific Outer Continental Shelf (OCS) offshore Oregon. This notice of availability (NOA) announces the start of the public review and comment period, as well as the dates and times for public meetings on the draft EA. After BOEM holds a public meeting and addresses public comments submitted during the review period, BOEM will publish a final EA. The EA will inform BOEM's decision on whether to issue wind energy leases and grants in the Pacific wind energy areas (WEAs) offshore Oregon.

DATES: Comments must be received no later than 30 days after publication date.

BOEM's virtual public meeting will be held on the following date at the time (Pacific time) indicated.

• Tuesday, May 21, 2024, 1 p.m.

Please go to https://www.boem.gov/oregon for meeting link, dates, times and for additional information and updates. Meetings are open to the public and free to attend. Pre-registration is not required to attend.

ADDRESSES: The draft EA and detailed information about BOEM's actions related to offshore wind energy planning in Oregon can be found on BOEM's website at https://www.boem.gov/renewable-energy/state-activities/oregon. Comments can be submitted in any of the following ways:

• Through the regulations.gov web portal: Navigate to https://www.regulations.gov and search for docket no. BOEM-2023-0065. Click on the “Comment” button below the document link and follow online instructions. Enter your information and comment, then click “Submit Comment.” A commenter's checklist is available on the comment web page;

• Orally during the public meetings identified in this announcement; or

• In written form by mail or any other delivery service, enclosed in an envelope labeled “Oregon Wind Leasing EA” and addressed to Chief, Environmental Analysis Section, Bureau of Ocean Energy Management, Camarillo, California Office, 760 Paseo Camarillo, Suite 102, Camarillo, CA 93010.

For more information about submitting comments, please see “Information on Submitting Comments” under the SUPPLEMENTARY INFORMATION heading below.

FOR FURTHER INFORMATION CONTACT: Lisa Gilbane, Chief, Environmental Analysis Section, Bureau of Ocean Energy Management, Camarillo, California Office, 760 Paseo Camarillo, Suite 102, Camarillo, CA 93010, (805) 384-6387 or lisa.gilbane@boem.gov.

SUPPLEMENTARY INFORMATION: The draft EA analyzes the proposed action, which is the issuance of wind energy leases within the Oregon WEAs, and the no action alternative. The lease sale itself would not authorize any activities on the OCS. Therefore, the EA considers the reasonably foreseeable environmental consequences of site characterization surveys (i.e., biological, archeological, geological and geophysical surveys, and core samples) and site assessment activities (i.e., installation of meteorological buoys), which are expected to take place following lease issuance. Under the National Environmental Policy Act and its implementing regulations, BOEM is preparing an EA for this proposed action to assist the agency's planning and decision-making (40 CFR 1501.5(b)).

Availability of the Draft EA: The draft EA and associated information are available on BOEM's website at: https://www.boem.gov/renewable-energy/state-activities/oregon.

Information on Submitting Comments: All interested parties are requested to comment on the EA document and appendices. For information on how to submit comments, see the ADDRESSES section above.

Freedom of Information Act: BOEM will protect privileged or confidential information that you submit as required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.114(b) that it qualifies for exemption from disclosure under FOIA. Please label privileged or confidential information “Contains Confidential Information” and consider submitting such information as a separate attachment.

BOEM will not treat as confidential any aggregate summaries of information or any comments not containing privileged or confidential information. Information that is not labeled as privileged or confidential may be regarded by BOEM as suitable for public release.

Personally Identifiable Information: BOEM encourages you not to submit anonymous comments. Please include your name and address as part of your comment. You should be aware that your entire comment, including your name, address, and any personally identifiable information (PII) included in your comment, may be made publicly available. All submissions from identified individuals, businesses, and organizations will be available for public viewing at https://www.regulations.gov.

For BOEM to consider withholding your PII from disclosure, you must identify any information contained in your comments that, if released, would constitute a clearly unwarranted invasion of your personal privacy. You must also briefly describe any possible harmful consequences of the disclosure of information, such as embarrassment, injury, or other harm.

Even if BOEM withholds your information in the context of this notice, your submission is subject to FOIA. If your submission is requested under FOIA, your information will only be withheld if a determination is made that one of FOIA's exemptions to disclosure applies. Such a determination will be made in accordance with the Department of the Interior's FOIA regulations and applicable law.

Except for clearly identified privileged and confidential information, BOEM will make available for public inspection all comments, in their entirety, submitted by organizations and businesses, or by individuals identifying themselves as representatives of organizations or businesses.

Section 304 of the NHPA (54 U.S.C. 307103(a)): After consultation with the Secretary, BOEM is required to withhold the location, character, or ownership of historic resources if it determines that disclosure may, among other things, risk harm to the historic resources or impede the use of a traditional religious site by practitioners. Tribal entities should designate information that falls under section 304 of NHPA as confidential.

Authority: 42 U.S.C. 4231 et seq. (NEPA, as amended) and 40 CFR 1506.6.

Richard Yarde,
Pacific Regional Supervisor, Office of Environment, Bureau of Ocean Energy Management.

[FR Doc. 2024-09360 Filed 4-30-24; 8:45 am]

BILLING CODE 4340-98-P